DEPARTMENT OF HEALTH AND HUMAN SERVICES

Administration on Aging

Public Information Collection Requirement Proposed To Be Submitted to the Office of Management and Budget (OMB) for Clearance

AGENCY: Administration on Aging (AoA).

The Administration on Aging (AoA), Department of Health and Human Services, provides an opportunity for comment on the following proposal for the collection of information in compliance with the Paperwork Reduction Act (PRA; Pub. L. 96-511): Title VI Native American Caregiver Support Program Reports.

Title of Information Collection: Title VI Native American Caregiver Support Program Report.

Type of Request: New.

Use: Collection of information, from Title VI grantees, to use in reporting information on programs funded by Title VI as required under section 202(a)(19), section 614(a)(2), and section 614(a)(3) of the Older Americans Act, as amended.

Frequency: Semi-Annually.

Respondents: Tribal Organizations.

Estimated Number of Responses: 110.

Estimated Burden Hours: 110.

Additional Information or Comments: A copy of the above mentioned Title VI Native American Caregiver Support Program Report can be obtained by calling M. Yvonne Jackson, Ph.D., Director, Office for American Indian, Alaskan Native and Native Hawaiian Programs, Administration on Aging, 330 Independence Avenue, SW., Washington, DC 20201; telephone (202) 619-2713. Written comments and recommendations regarding the Native American Caregiver Support Program Report should be sent within 60 days of the publication of this notice to the following address: Administration on Aging, Wilbur J. Cohen Federal Building, 330 Independence Avenue, SW., Room 4743, Washington, DC 20201. Attn: M. Yvonne Jackson, Ph.D.

Dated: November 9, 2001.
Josefina G. Carbonell,
Assistant Secretary for Aging.

[FR Doc. 01-28729 Filed 11-15-01; 8:45 am]

BILLING CODE 4154-01-P